TENNESSEE VALLEY AUTHORITY

Meeting No. 1559

Time and Date: 9 a.m. (c.d.t.), May 4, 2005, Robbins Field/Noble Park, (adjacent to Church Street School), Madison and Jackson Streets, Tupelo, Mississippi.

Status: Open.

Agenda

Approval of minutes of meeting held on March 23, 2005.

New Business

C—Energy

C1. Contract with Day & Zimmermann, NPS, Inc., for modification and supplemental maintenance work at TVA's western region fossil plants and other TVA controlled facilities.

C2. Supplement to Contract No. 99998999 with G-UB-MK Constructors for modification, supplemental maintenance work, and selective catalytic/noncatalytic reduction projects at various TVA fossil and hydro facilities.

C3. Supplement to Contract No. 00014703 with Stone and Webster Construction, Inc., for work in support of TVA's nuclear operating units and the Browns Ferry Nuclear Plant Unit 1 Recovery Project.

E—Real Property Transactions

E1. Grant of a permanent easement to the State of Georgia for a highway improvement project, affecting approximately .24 acre of land in Catoosa County Georgia, Tract No. XTWCCA-1H.

E2. Grant of a permanent recreation easement to Dr. James L. Everett, affecting approximately .3 acre of TVA land on Fort Loudoun Reservoir in Blount County, Tennessee, Tract No. XFL-137RE, in exchange for a permanent access easement affecting approximately 2.2 acres of private land on Fort Loudoun Reservoir in Blount County, Tennessee, Tract No. FLAR-6-E.

E3. Sale of approximately 6.5 acres of land, Tract No. XVOLSS-1, and sale of a permanent easement for an access road, affecting approximately .5 acre of land, Tract No. XVOLSS-2AR, to the Knoxville Utilities Board for the construction of a new 161-kV substation on the Volunteer 500-kV Substation site.

E4. Modification of certain deed restrictions affecting approximately .27 acre of former TVA land on Chickamauga Reservoir in Hamilton County, Tennessee, Tract No. XCR-415, S.1X, to abandon a road right-of-way and allow for existing fill and a portion of a house to remain on the property.

E5. Sale at public auction of approximately 1 acre of land on Tellico Reservoir in Monroe County, Tennessee, Tract No. XTEKLR-249.

F—Other

F1. Approval to file condemnation cases to acquire easements and rights-of-way for a transmission line project affecting the Johnsonville-Columbia Tap to South Waverly Transmission Line in Humphreys County, Tennessee, and the temporary right to enter upon land in Gordon County, Georgia, to complete activities required for the acquisition of an easement and right-of-way for the Moss Lake-Center Point Transmission Line.

Information Items

1. Approval of delegations of authority to the President and Chief Operating Office, or a designee, to approve the practices of submitting “virtual supply offers” and “virtual demand bids” in the Midwest ISO's day-ahead energy market and of holding, buying, or selling Financial Transmission Rights in the Midwest ISO and PJM Interconnection's day-ahead energy markets, and delegation of authority to the Chief Financial Officer, or a designee, to assure that the practices are within the parameters approved by the Board.

2. Approval of a delegation of authority to the President and Chief Operating Officer, or a designee, to approve and implement revisions to TVA's Dispersed Power Production Guidelines for TVA and Distributors of TVA Power.

3. Approval of a public auction sale affecting approximately 24.7 acres of land on Pickwick Reservoir in Tishomingo County, Mississippi, Tract No. XYECR-14.

4. Approval of Two-Part Real Time Pricing arrangements to be offered to Eka Chemicals, Inc., for operation of its plant near Columbus, Mississippi.

5. Amendments to the Rules and Regulations of the TVA Retirement System and to the Provisions of the TVA Savings and Deferral Retirement Plan.

6. Approval of delegation of authority to purchase, renew, and take other ancillary actions as may be necessary or desirable in connection with certain nonnuclear insurance.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: April 27, 2005.
Maureen H. Dunn,
General Counsel and Secretary.

[FR Doc. 05-8748 Filed 4-28-05; 10:19 pm]

BILLING CODE 8120-08-P